DEPARTMENT OF COMMERCE

National Oceanic and Atmospheric Administration

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will meet November 2 and November 3, 2015.

DATES: The meeting will be held on Monday, November 2, 2015, from 1 p.m. to 5 p.m. and on Tuesday, November 3, 2015, from 8 a.m. to 5 p.m.

ADDRESSES: The meeting will be held at the Anchorage Marriott Downtown Hotel, 820 W. 7th Ave., Juneau/Haines Room, Anchorage, AK 99501.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Monday, November 2, 2015 through Tuesday, November 3, 2015

The agenda will include: (a) Update on 2015 cooperative research, (b) Discuss elements of 2016 EM Pre-implementation Program, (c) Review budget, (d) Plan for EM Integration Analysis, (e) Discuss other 2016 EM research, and (f) Other business and scheduling. The Agenda is subject to change, and the latest version will be posted at http://www.npfmc.org/

Special Accommodations

These meetings are physically accessible to people with disabilities. Requests for sign language interpretation or other auxiliary aids should be directed to Shannon Gleason at (907) 271-2809 at least 7 working days prior to the meeting date.

Dated: October 13, 2015.
Tracey L. Thompson,
Acting Deputy Director, Office of Sustainable Fisheries, National Marine Fisheries Service.

[FR Doc. 2015-26354 Filed 10-15-15; 8:45 am]

BILLING CODE 3510-22-P